DEPARTMENT OF COMMERCE

National Oceanic and Atmospheric Administration

RIN 0648-XP62

New England Fishery Management Council; Public Meeting

AGENCY: National Marine Fisheries Service (NMFS), National Oceanic and Atmospheric Administration (NOAA), Commerce.

ACTION: Notice of a public meeting.

SUMMARY: The New England Fishery Management Council's (Council) Scallop Advisory Panel will meet to consider actions affecting New England fisheries in the exclusive economic zone (EEZ).

DATES: The meeting will be held on Wednesday, June 17, 2009 at 9 a.m.

ADDRESSES: The meeting will be held at the Four Points Sheraton, 407 Squire Road, Revere, MA 02151; telephone: (781) 284-7200; fax: (781) 284-1886.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

Agenda for Wednesday, June 17, 2009

1. Discuss measures under consideration for Scallop Amendment 15. Specifically the advisors will consider potential fishing power adjustments for permit stacking and leasing alternatives that are under consideration for the limited access scallop fishery. The advisors will also provide input on other measures under consideration.

2. They will review and discuss possible issues to consider in Framework Adjustment 21; the action that will implement specifications for the 2010 fishing year. The panel may discuss other business if time permits. The panel's recommendations on both Amendment 15 and Framework 21 will be forwarded to the Scallop Committee to consider at a later date.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 27, 2009.
Tracey L. Thompson,
Acting Director, Office of Sustainable Fisheries, National Marine Fisheries Service.

[FR Doc. E9-12675 Filed 6-1-09; 8:45 am]

BILLING CODE 3510-22-S